DEPARTMENT OF TRANSPORTATION

National Highway Traffic Safety Administration

[Docket No. NHTSA-2003-15681; Notice 3]

Decision That Nonconforming 2003 Ferrari Spider and Coupe Passenger Cars Are Eligible for Importation

AGENCY: National Highway Traffic Safety Administration, DOT.

ACTION: Notice of decision by the National Highway Traffic Safety Administration that nonconforming 2003 Ferrari Spider and Coupe passenger cars are eligible for importation.

SUMMARY: This document announces a decision by the National Highway Traffic Safety Administration (NHTSA) that certain 2003 Ferrari Spider and Coupe passenger cars that were not originally manufactured to comply with all applicable Federal motor vehicle safety standards (FMVSS) are eligible for importation into the United States because they are substantially similar to vehicles originally manufactured for importation into and sale in the United States and that were certified by their manufacturer as complying with the safety standards (the U.S. certified version of the 2003 Ferrari Spider and Coupe passenger cars), and they are capable of being readily altered to conform to the standards.

DATES: This decision was effective October 31, 2003. The agency notified the petitioner at that time that the subject vehicles are eligible for importation. This document provides public notice of the eligibility decision.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”)(Registered Importer 90-007), petitioned NHTSA to decide whether 2003 Ferrari Spider and Coupe passenger cars are eligible for importation into the United States. NHTSA published a notice of the petition on August 1, 2003 (68 FR 45309) to afford an opportunity for public comment. The reader is referred to that notice for a thorough description of the petition.

One comment was received in response to the notice of petition, from Ferrari North America, Inc. (FNA), the U.S. representative of the vehicle's original manufacturer. FNA's comment addressed issues it believed G&K had overlooked in describing alterations necessary to conform 2003 Ferrari Spider and Coupe passenger cars to a number of FMVSS and to the Bumper Standard. FNA observed that the non-U.S. certified 2003 Ferrari 360 passenger cars that are the subject of the instant petition are identical, with respect to their conformance to applicable FMVSS, to the nonconforming 2002 Ferrari 360 passenger cars manufactured before September 1, 2002 that NHTSA has previously decided to be eligible for importation, as reflected in a notice of decision published on April 3, 2003 at 68 FR 16346 (Docket No. NHTSA-2002-13219). As a consequence, FNA contended that if the agency were to grant import eligibility to 2003 Ferrari 360 passenger cars, that decision would have to be made on the same basis as the decision to grant import eligibility to the 2002 models manufactured before September 1, 2002.

The agency gave G&K an opportunity to respond to FNA's comments. G&K did not see the need to do so because it believed that FNA had raised no issues beyond the ones it raised in response to the eligibility petition for 2002 Ferrari 360 passenger cars manufactured before September 1, 2002 that was also submitted by G&K.

FNA's comments and NHTSA's analysis are set forth below for each of the issues that FNA raised.

(1) 49 CFR Part 581, Bumper Standard: The petition stated that the front and rear bumper support structures in the non-U.S. certified model must be reinforced in order to comply with the Bumper Standard. FNA responded that the bumpers should be replaced with U.S.-model bumper components unless there is no doubt that G&K's proposed reinforcements will meet the requirements of 49 CFR part 581. In addition, FNA pointed out that NHTSA had specifically required that the bumpers on nonconforming 2002 Ferrari 360 passenger cars manufactured before September 1, 2002 must be replaced, and not merely modified to conform to the Bumper Standard.

NHTSA's Analysis: The agency notes that Bumper Standard compliance issues are not directly relevant to an import eligibility decision, as such a decision is to be based on the capability of a non-U.S. certified vehicle to be altered to conform to the FMVSS, and the Bumper Standard is not an FMVSS. However, because a vehicle that is not originally manufactured to comply with the Bumper Standard must be modified to comply with the standard before it can be admitted permanently into the United States, conformance with the Bumper Standard must be shown in the conformity package submitted to NHTSA to allow release of the DOT conformance bond furnished at the time of vehicle importation.

As part of the import eligibility decision for 2002 Ferrari 360 passenger cars manufactured before September 1, 2002, NHTSA specifically required replacement of bumper components with U.S.-model components based on the petitioner's assertion that it would perform such a replacement in lieu of modifying the bumper components. After that decision, G&K submitted to the agency detailed descriptions of bumper modifications that were deemed sufficient to bring the bumpers on 2001 and 2002 Ferrari 360 passenger cars into conformance with the Bumper Standard. G&K requested and was granted confidentiality with respect to that information by NHTSA's Chief Counsel.

Based on the showing that G&K made with respect to non-U.S. certified 2002 Ferrari 360 passenger cars manufactured before September 1, 2002, NHTSA has concluded that the 2003 model vehicles that are the subject of the instant petition are also capable of being readily modified to comply with the Bumper Standard.

(2) FMVSS No. 201 Occupant Protection in Interior Impact: The petition identified a number of interior trim components in the non-U.S. certified model that must be either replaced with U.S.-model components or be modified to meet the standard. FNA contended that conformance with the standard could only be achieved by replacement of the components at issue, and not by their modification.

NHTSA's Analysis: The modifications that G&K identified as necessary to achieve conformance with the standard would not prelude the vehicle from being deemed eligible for importation. Conformity packages submitted for vehicles imported under the decision must demonstrate that the vehicle is equipped with components that allow it to conform to the standard. Any modification or replacement of components necessary to meet the requirements of the standard must be shown to bring the vehicle into compliance. Such proof must be submitted by an RI as part of any conformity package submitted for 2003 Ferrari 306 Spider and Coupe passenger cars.

(3) FMVSS No. 208 Occupant Crash Protection: The petition identified various occupant crash protection components in the non-U.S. certified model that must be replaced with U.S.-model components or modified to meet the standard. FNA stated that the components at issue should only be replaced with U.S.-model components and not be modified to meet the standard.

NHTSA's Analysis: The modifications G&K identified as necessary to comply with the standard would not prelude the vehicle from being deemed eligible for importation. Conformity packages submitted for vehicles imported under the decision must demonstrate that the vehicle is equipped with components that allow it to conform to the standard. Any modification or replacement of components necessary to meet the requirements of the standard must be shown to bring the vehicle into compliance. Such proof must be submitted by an RI as part of any conformity package submitted for 2003 Ferrari 306 Spider and Coupe passenger cars.

(4) FMVSS No. 301 Fuel System Integrity: The petition identified a number of fuel system components in the non-U.S. certified model that must be replaced with U.S.-model components to achieve conformity with the standard. FNA requested that the same modifications required for 2002 Ferrari 360 Spider and Coupe passenger cars be required for the 2003 model as well.

NHTSA's Analysis: Because FNA described the 2002 and 2003 models as being identical with respect to their conformance with all applicable FMVSS and G&K did not take issue with this representation, the agency has concluded that the following modifications, which were identified as needed to conform the 2002 model to the requirements of the standard, are appropriate for the 2003 model as well:

(a) Replacement of the fuel/vapor separator, rollover valve, filler neck, vapor lines, evaporative (charcoal) canister, air pump, and associated hardware on non-U.S. certified versions of the vehicle to make them identical to those in the U.S. certified version;

(b) modification of the U.S.-model filler neck so that it can be attached to the non-U.S.-model tank; and

(c) relocation of the charcoal canister, air pump, fuel filler neck, and rollover valve so that they are in essentially the same position as those components found on the U.S. certified vehicle.

Conclusion

In view of the above considerations, NHTSA decided to grant the petition.

Vehicle Eligibility Number for Subject Vehicles

The importer of a vehicle admissible under any final decision must indicate on the form HS-7 accompanying entry the appropriate vehicle eligibility number indicating that the vehicle is eligible for entry. VSP-410 is the vehicle eligibility number assigned to vehicles admissible under this decision.

Final Decision

Accordingly, on the basis of the foregoing, NHTSA decided that 2003 Ferrari Spider and Coupe passenger cars that were not originally manufactured to comply with all applicable FMVSS, are substantially similar to 2003 Ferrari Spider and Coupe passenger cars originally manufactured for importation into and sale in the United States and certified under 49 U.S.C. 30115, and are capable of being readily altered to conform to all applicable FMVSS.

Authority: 49 U.S.C. 30141(a)(1)(A) and (b)(1); 49 CFR 593.8; delegations of authority at 49 CFR 1.50 and 501.8.

Claude H. Harris,
Director, Office of Vehicle Safety Compliance.

[FR Doc. E6-8543 Filed 6-1-06; 8:45 am]

BILLING CODE 4910-59-P